DEPARTMENT OF LABOR

Office of the Secretary

All Items Consumer Price Index for All Urban Consumers—United States City Average

Pursuant to section 33105(c) of Title 49, United States Code, and the delegation of the Secretary of Transportation's responsibilities under the Act to the Administrator of the Federal Highway Administration (49 CFR, section 501.2(a)(9)), the Secretary of Labor has certified to the Administrator and published this notice in the Federal Register that the United States City Average All Items Consumer Price Index for All Urban Consumers (1967=100) increased 73.2 percent from its 1984 base period annual average of 311.1 to its 2002 annual average of 538.8.

Signed at Washington, DC, on the 3rd day of March 2003.
Elaine L. Chao,
Secretary of Labor.

[FR Doc. 03-5725 Filed 3-10-03; 8:45 am]

BILLING CODE 4510-24-M